DEPARTMENT OF ENERGY

Federal Energy Regulatory Commission

Sunshine Act Meeting

March 19, 2003.

The Following Notice of Meeting is Published Pursuant to Section 3(A) of the Government in the Sunshine Act (Pub. L. 94-409), 5 U.S.C. 552B:

Agency Holding Meeting: Federal Energy Regulatory Commission.

DATE AND TIME: March 26, 2003, 10 a.m.

Place: Room 2C, 888 First Street, NE., Washington, DC 20426.

Status: Open.

Matters To Be Considered: Agenda.

* Note—Items listed on the agenda may be deleted without further notice.

Contact Person for More Information: Magalie R. Salas, Secretary Telephone (202) 502-8400, for a recording listing items stricken from or added to the meeting, call (202) 502-8627.

This is a list of matters to be considered by the Commission. It does not include a listing of all papers relevant to the items on the agenda; however, all public documents may be examined in the Reference and Information Center.

823rd Meeting—March 26, 2003, Regular Meeting 10 a.m.

Administrative Agenda

A-1.

Docket# AD02-1, 000, Agency Administrative Matters

A-2.

Docket# AD02-7, 000, Customer Matters, Reliability, Security and Market Operations

Markets, Tariffs and Rates—Electric

E-1.

Omitted

E-2.

Docket# ER03-453, 000, Allegheny Power System, Inc.

E-3.

Docket# ER03-454, 000, Southern Company Services, Inc.

E-4.

Docket# ER03-211, 000, Southern Company Services, Inc.

Other#s ER02-211, 001, Southern Company Services, Inc.

ER03-212, 000, Southern Company Services, Inc.

ER03-212, 001, Southern Company Services, Inc.

E-5.

Docket# ER03-458, 000, American Electric Power Service Corporation

E-6.

Docket# ER03-487, 000, Idaho Power Company

Other#s ER03-488, 000, Idaho Power Company

E-7.

Docket# ER03-303, 000, New York Independent System Operator, Inc.

Other#s ER03-303, 001, New York Independent System Operator, Inc.

E-8.

Docket# ER03-510, 000, Delta Energy Center, LLC

E-9.

Docket# ER03-449, 000, Sussex Rural Electric Cooperative

Other#s EL03-49, 000, Sussex Rural Electric Cooperative

E-10.

Docket# ER02-108, 008, Midwest Independent Transmission System Operator, Inc.

E-11.

Omitted

E-12.

Docket# EC03-47, 000, Dynegy Inc.

Other#s ES03-20, 000, Dynegy Inc.

ES03-20, 001, Dynegy Inc.

EC03-47, 001, Dynegy Inc.

E-13.

Omitted

E-14.

Docket# ER02-2568, 001, New England Power Company

E-15.

Docket# EL02-126, 000, City of Corona, California v. Southern California Edison Company

E-16.

Docket# EL03-50, 000, Powerex Corporation v. California Power Exchange Corporation

E-17.

Docket# EL00-95, 045, San Diego Gas & Electric Company

Other#s EL00-98, 042, Investigation of Practices of California Independent System Operator Corporation & California Power Exchange

E-18.

Docket# PA02-2, 000, Fact-Finding Investigation of Potential Manipulation of Electric and Natural Gas Prices

E-19.

Omitted

E-20.

Docket# ER02-871, 000, Midwest Independent Transmission System Operator, Inc.

E-21.

Docket# EL01-10, 000, Puget Sound Energy, Inc.

E-22.

Docket# EL00-95, 079, San Diego Gas & Electric Company

Other#s EL00-98, 067, Investigation of Practices of California Independent System Operator Corporation & California Power Exchange

Miscellaneous

M-1.

Reserved

Markets, Tariffs and Rates—Gas

G-1.

Docket# RP00-241, 000, Public Utilities Commission of the State of California v. El Paso Natural Gas Company, El Paso Merchant Energy Gas, L.P. and El Paso Merchant Energy Company

Other#s RP00-241, 006, Public Utilities Commission of the State of California v. El Paso Natural Gas Company, El Paso Merchant Energy Gas, L.P. and El Paso Merchant Energy Company

RP00-241, 008, Public Utilities Commission of the State of California v. El Paso Natural Gas Company, El Paso Merchant Energy Gas, L.P. and El Paso Merchant Energy Company

G-2.

Docket# RP00-336, 006, El Paso Natural Gas Company

Other#s RP00-139, 004, KN Marketing, L.P. v. El Paso Natural Gas Company RP01-484, 002, Aera Energy, LLC, et al., v. El Paso Natural Gas Company

RP01-486, 002, Texas, New Mexico and Arizona Shippers v. El Paso Natural Gas Company

G-3.

Docket# RP00-336, 010, El Paso Natural Gas Company

G-4.

Docket# RP98-206, 008, Atlanta Gas Light Company

G-5.

Docket# OR03-2, 000, Caesar Oil Pipeline Company, LLC

G-6.

Docket# OR03-3, 000, Proteus Oil Pipeline Company, LLC

G-7.

Docket# RP96-389, 076, Columbia Gulf Transmission Company

G-8.

Docket# RP03-267, 000, Northern Natural Gas Company

G-9.

Docket# RP03-262, 000, Natural Gas Pipeline Company of America

G-10.

Docket# RP03-284, 000, Williston Basin Interstate Pipeline Company

G-11.

Docket# RP03-286, 000, Williston Basin Interstate Pipeline Company

Other#s RP03-286, 001, Williston Basin Interstate Pipeline Company

G-12.

Docket# RP03-275, 000, Northern Border Pipeline Company

G-13.

Docket# RP03-256, 000, Honeoye Storage Corporation

Other#s RP03-256, 001, Honeoye Storage Corporation

G-14.

Docket# RP03-278, 000, Panhandle Eastern Pipe Line Company

G-15.

Docket# RP03-258, 000, Iroquois Gas Transmission System, L.P.

Other#s RP03-258, 001, Iroquois Gas Transmission System, L.P.

G-16.

Omitted

G-17.

Docket# RP03-272, 000, Northwest Pipeline Corporation

G-18.

Omitted

G-19.

Docket# RP03-279, 000, Panhandle Eastern Pipe Line Company

G-20.

Omitted

G-21.

Docket# RP03-285, 000, TransColorado Gas Transmission Company

G-22.

Docket# GP99-15, 001, Burlington Resources Oil & Gas Company

Other#s RP98-39, 026, Northern Natural Gas Company

SA98-101, 001, Continental Energy

G-23.

Docket# RP98-40, 031, Panhandle Eastern Pipe Line Company

Other#s GP98-6, 003, Anadarko Petroleum Corporation

GP98-7, 003, OXY USA, Inc.

GP98-27, 001, Oneok Exploration Co.

GP98-32, 002, Anadarko Producton Co.

SA98-100, 001, Partnership Properties Co., a/k/a IMC Global, Inc.

SA99-1, 001, Burlington Resources Oil and Gas Co., LP

SA99-7, 001, Charlotte Hill Gas Co.

G-24.

Docket#s RP98-52, 045, Southern Star Central Gas Pipeline, Inc.

Other#s, GP98-3, 004, OXY USA, Inc.

GP98-4, 004, Amoco Production Company

GP98-13, 004, ExxonMobil Oil Corporation

GP98-16, 004, Union Pacific Resources Inc.

SA98-33, 001, Pioneer Natural Resources USA, Inc.

G-25.

Docket# RP98-54, 036, Colorado Interstate Gas Company

Other#s RP98-54, 037, Colorado Interstate Gas Company

G-26.

Docket# RP03-7, 000, Natural Gas Pipeline Company of America

Other#s RP03-7, 001, Natural Gas Pipeline Company of America

G-27.

Docket# RP03-280, 000, Columbia Gas Transmission Corporation

G-28.

Docket# RP03-281, 000, Columbia Gas Transmission Corporation

G-29.

Docket# RP03-292, 000, Viking Gas Transmission Company

Energy Projects—Hydro

H-1.

Omitted

H-2.

Omitted

H-3.

Docket# P-2395, 020, Wisconsin Department of Natural Resources v. Flambeau Hydro, L.L.C.

Other#s P-2421, 020, Wisconsin Department of Natural Resources v. Flambeau Hydro, LLC.

P-2473, 019, Wisconsin Department of Natural Resources v. Flambeau Hydro, Inc.

P-2640, 027, Wisconsin Department of Natural Resources v. Flambeau Hydro, LLC

Energy Projects—Certificates

C-1.

Docket# CP03-1, 000, El Paso Natural Gas Company

C-2.

Docket# CP02-396, 001, Greenbrier Pipeline Company, LLC

Other#s CP02-396, 000, Greenbrier Pipeline Company, LLC

CP02-397, 000, Greenbrier Pipeline Company, LLC

CP02-397, 001, Greenbrier Pipeline Company, LLC

CP02-398, 000, Greenbrier Pipeline Company, LLC

CP02-398, 001, Greenbrier Pipeline Company, LLC

C-3.

Docket# CP03-2, 000, Energy West Development, Inc.

Other#s CP03-3, 000, Energy West Development, Inc.

CP03-4, 000, Energy West Development, Inc.

C-4.

Docket# CP03-12, 000, Egan Hub Partners, L.P.

C-5.

Docket# CP03-11, 000, Jupiter Energy Corporation

C-6.

Docket# CP02-116, 001, Tennessee Gas Pipeline Company

C-6.

Other#s CP02-117, 001, Tennessee Gas Pipeline Company

Magalie R. Salas,
Secretary.

[FR Doc. 03-7111 Filed 3-20-03; 4:01 pm]

BILLING CODE 6717-01-U